DEPARTMENT OF COMMERCE

National Oceanic and Atmospheric Administration

Evaluation of State Coastal Management Programs and National Estuarine Research Reserves

AGENCY: Office of Ocean and Coastal Resource Management, National Ocean Service, National Oceanic and Atmospheric Administration (NOAA), DOC.

ACTION: Notice of intent to evaluate and notice of availability of final findings.

SUMMARY: The NOAA Office of Ocean and Coastal Resource Management (OCRM) announces its intent to evaluate the performance of the South Carolina Coastal Management Program.

The Coastal Zone Management Program evaluation will be conducted pursuant to section 312 of the Coastal Zone Management Act of 1972, as amended, (CZMA) and regulations at 15 CFR part 923, subpart L.

The CZMA requires continuing review of the performance of states with respect to coastal program implementation. Evaluation of Coastal Zone Management Programs requires findings concerning the extent to which a state has met the national objectives, adhered to its Coastal Management Program document approved by the Secretary of Commerce, and adhered to the terms of financial assistance awards funded under the CZMA.

The evaluation will include a site visit, consideration of public comments, and consultations with interested Federal, State and local agencies and members of the public. A public meeting will be held as part of the site visit.

Notice is hereby given of the dates of the site visit for the listed evaluation, and the date, local time, and location of the public meeting during the site visit.

The South Carolina Coastal Management Program evaluation site visit will be held July 19-23, 2004. One public meeting will be held during the week. The public meeting will be on Monday, July 19, 2004, at 5 p.m., South Carolina Department of Health and Environmental Control, Office of Ocean and Coastal Resource Management, 1362 McMillan Avenue (site of the old Charleston Navy Base), 3rd floor conference room, Charleston, South Carolina.

Copies of a State's most recent performance reports, as well as OCRM's notifications and supplemental request letters to the State, are available upon request from OCRM. Written comments from interested parties regarding this Program are encouraged and will be accepted until 15 days after the public meeting. Please direct written comments to Ralph Cantral, Chief, National Policy and Evaluation Division, Office of Ocean and Coastal Resource Management, NOS/NOAA, 1305 East-West Highway, 10th Floor, Silver Spring, Maryland 20910. When the evaluation is completed, OCRM will place a notice in the Federal Register announcing the availability of the final evaluation findings.

Notice is hereby given of the availability of the final evaluation findings for the Oregon and New Hampshire Coastal Management Programs (CMPs); and the Chesapeake Bay-Maryland and Chesapeake Bay-Virginia National Estuarine Research Reserves (NERRs). Sections 312 and 315 of the Coastal Zone Management Act of 1972 (CZMA), as amended, require a continuing review of the performance of coastal States with respect to approval of CMPs and the operation and management of NERRs.

The States of Oregon and New Hampshire were found to be implementing and enforcing their federally approved coastal management programs, addressing the national coastal management objectives identified in CZMA section 303(2)(A)-(K), and adhering to the programmatic terms of their financial assistance awards. Chesapeake Bay-Maryland and Chesapeake Bay-Virginia NERRs were found to be adhering to programmatic requirements of the NERR System.

Copies of these final evaluation findings may be obtained upon written request from: Ralph Cantral, Chief, National Policy and Evaluation Division, Office of Ocean and Coastal Resource Management, NOS/NOAA, 1305 East-West Highway, 10th Floor, Silver Spring, Maryland 20910, or Ralph.Cantral@noaa.gov, (301) 713-3155, extension 118.

FOR FURTHER INFORMATION CONTACT: Ralph Cantral, Chief, National Policy and Evaluation Division, Office of Ocean and Coastal Resource Management, NOS/NOAA, 1305 East-West Highway, 10th Floor, Silver Spring, Maryland 20910, (301) 713-3155, extension 118.

Federal Domestic Assistance Catalog 11.419; Coastal Zone Management Program Administration.
Dated: June 14, 2004.
Alan Neuschatz,
Associate Assistant Administrator for Management, Ocean Services and Coastal Zone Management.

[FR Doc. 04-14212 Filed 6-22-04; 8:45 am]

BILLING CODE 3510-08-P